SECURITIES AND EXCHANGE COMMISSION

[Release No. 34-48814; File No. SR-Amex-2003-96]

Self-Regulatory Organizations; Notice of Filing and Immediate Effectiveness of Proposed Rule Change by the American Stock Exchange LLC To Revise Its Registration Fees

November 20, 2003.

Pursuant to Section 19(b)(1) of the Securities Exchange Act of 1934 (“Act”),¹ and Rule 19b-4 thereunder,² notice is hereby given that on November 13, 2003, the American Stock Exchange LLC (“Amex” or “Exchange”) filed with the Securities and Exchange Commission (“Commission”) the proposed rule change as described in Items I, II and III below, which Items have been prepared by the Exchange. The Exchange has designated this proposal as one establishing or changing a due, fee or other charge imposed by the self-regulatory organization under Section 19(b)(3)(A) of the Act ³ and Rule 19b-4(f)(2) thereunder,⁴ which renders the proposed rule change effective upon filing with the Commission. The Commission is publishing this notice to solicit comments on the proposed rule change from interested persons.

¹ 15 U.S.C. 78s(b)(1).

² 17 CFR 240.19b-4.

³ 15 U.S.C. 78s(b)(3)(A).

⁴ 17 CFR 240.19b-4(f)(2).

I. Self-Regulatory Organization's Statement of the Terms of Substance of the Proposed Rule Change

The American Stock Exchange LLC proposes to revise its registration fees. The text of the proposed rule change is set forth below. Proposed new language is in italics; proposed deletions are in [brackets].

* * * * *

Floor Fees and Booth Rental Fees. No change.

Member Fees. No change.

Registration and IDC Fees

I. Registration

Initial Processing Fee ⁽¹⁾—$145

Disclosure Processing Fee ⁽²⁾—95

Annual Renewal Processing Fee ⁽³⁾—80 [77]

Fingerprint Card Processing Fee ⁽⁴⁾—35

Fingerprint Results Processed thru other ⁽⁵⁾—13

Transfer Processing Fee ⁽⁶⁾—125

Web CRD System Transition Fee ⁽⁷⁾—85 (one time)

Terminations Fee ⁽⁸⁾—35 [30] (one time)

II. Options IDC No change

Notes

⁽¹⁾ The Initial Processing Fee will be assessed for all initial and dual registration Form U-4 filings. $85.00 of this fee will be retained by NASD as its CRD Processing Fee and $60.00 will be disbursed by NASD to Amex as its Initial Registration Fee.

⁽²⁾ The Disclosure Processing Fee will be assessed in connection with Forms U-4 and U-5 for all filings that contain new or amended disclosure information. The $95.00 fee will be retained by NASD as its Disclosure Processing Fee.

⁽³⁾ The Annual System Processing Fee will be assessed during the yearly renewal cycle. $30.00 of this fee will be retained by NASD as its Annual System Processing Fee assessed during renewals and $50.00 [$47.00] will be disbursed by NASD to Amex as its Annual Maintenance Fee.

⁽⁴⁾ The Fingerprint Processing Fee will be assessed for receiving hard copy fingerprint cards as part of the registration function and submitting and processing the results of each card received. The $35.00 fee will be retained by NASD as its Fingerprint Card Processing Fee.

⁽⁵⁾ The Fee for Posting Fingerprint Results Processed through Other SROs will be assessed for processing the results of fingerprints processed by the FBI through an SRO other than NASD. The $13.00 fee will be retained by NASD.

⁽⁶⁾ The Transfer Processing Fee will be assessed for all transfer and re-license Form U-4 filings. $85.00 of this fee will be retained by NASD as its CRD Processing Fee and $40.00 will be disbursed by NASD to Amex as its Transfer Fee.

⁽⁷⁾ The Web CRD System Transition Fee is a one time fee that will be assessed on all individuals whose U-4s will be refiled electronically with Web CRD as part of the Exchange's migration to Web CRD. The $85.00 fee will be retained by NASD as its CRD Processing Fee.

⁽⁸⁾ The Termination Fee will be assessed in connection with all Form U-5 filings. This $35.00 [$30.00] fee will be disbursed by NASD to Amex as its Terminations Fee.

Amex Equity Fee Schedule through Other Fees. (No change)

* * * * *

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in Sections A, B, and C below, of the most significant aspects of such statements.

A. Self-Regulatory Organization's Statement of the Purpose of, and Statutory Basis for, the Proposed Rule Change

1. Purpose

The Exchange requires persons who perform specified functions for members and member organizations to be registered with the Exchange. The Exchange also requires members and member organizations to report terminations of registered persons. All registration filings currently are made through the NASD's Central Registration Depository system. As a result, Amex registration fees typically reflect a combination of Amex and NASD charges. The Amex and other self-regulatory organizations use the registration process (1) to ensure that qualified persons are employed in the securities industry, and (2) to identify possible regulatory issues associated with individuals who seek to become associated with a member or member organization or whose registration is terminated.

The Exchange is proposing to increase the Amex portion of the annual registration renewal fee and the Exchange's termination fee. These increases would amount to $3.00 for the renewal fee and $5.00 for the termination fee.

2. Statutory Basis

The Exchange believes that the proposed rule change is consistent with Section 6(b) of the Act ⁵ in general and furthers the objectives of Section 6(b)(4) ⁶ in particular in that it is designed to provide for the equitable allocation of reasonable dues, fees, and other charges among its members, issuers and other persons using its facilities.

⁵ 15 U.S.C. 78f.

⁶ 15 U.S.C. 78f(b)(4).

B. Self-Regulatory Organization's Statement on Burden on Competition

The Exchange believes that the proposed fee change will impose no burden on competition that is not necessary or appropriate in furtherance of the purposes of the Act.

C. Self-Regulatory Organization's Statement on Comments on the Proposed Rule Change Received From Members, Participants or Others

No written comments were solicited or received with respect to the proposed rule change.

III. Date of Effectiveness of the Proposed Rule Change and Timing for Commission Action

The proposed rule change has become immediately effective pursuant to Section 19(b)(3)(A)(ii) of the Act,⁷ and subparagraph (f)(2) of Rule 19b-4 thereunder,⁸ in that it establishes or changes a due, fee, or other charge imposed by the self-regulatory organization. At any time within 60 days of the filing of such proposed rule change, the Commission may summarily abrogate the rule change if it appears to the Commission that such action is necessary or appropriate in the public interest, for the protection of investors, or otherwise in furtherance of the purposes of the Act.

⁷ 15 U.S.C. 78s(b)(3)(A)(ii).

⁸ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Exchange. All submissions should refer to File No. SR-Amex-2003-96 and should be submitted by December 19, 2003.

For the Commission, by the Division of Market Regulation, pursuant to delegated authority.⁹
⁹ 17 CFR 200.30-3(a)(12).
Margaret H. McFarland,
Deputy Secretary.

[FR Doc. 03-29661 Filed 11-26-03; 8:45 am]

BILLING CODE 8010-01-P